DEPARTMENT OF ENERGY

Federal Energy Regulatory Commission

[Docket No. CP08-49-000]

Distrigas of Massachusetts Corporation; Notice of Application for Abandonment of Sales Services

January 4, 2008.

Take notice that on December 19, 2007, Distrigas of Massachusetts LLC (DOMAC), One Liberty Square, 10th Floor, Boston, Massachusetts 02109, filed an application under section 3 and section 7 of the Natural Gas Act (NGA) to obtain authorization: (1) For the abandonment of services provided pursuant to DOMAC's FERC Gas Tariff, First Revisited Volume No. 1 (Tariff) and under DOMAC's amended certificate of public convenience and necessity; (2) for the cancellation of DOMAC's Tariff, including all of its rate schedules contained therein; and (3) to retain certain existing rate and service terms now applicable to its liquid sales only pursuant to section 3 of the NGA based upon the Commission's acceptance of their Terms of Liquid Service; to become applicable to liquid sales upon such approval.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Any questions regarding this filing should be directed to Mr. Robert A. Nailling, Vice President, General Counsel and Secretary, Distrigas of Massachusetts LLC, One Liberty Square, 10th Floor, Boston, Massachusetts 02109, or Phone: (617) 526-8300.

DOMAC states that it purchases liquefied natural gas (LNG) imported by Distrigas LLC from various international sources. Distrigas LLC is a corporate affiliate of DOMAC. DOMAC then resells the LNG in vapor and liquid form to its customers located throughout the northeastern United States. DOMAC's customers include local distribution companies, gas marketers, and end-users, including electric power generation plants. DOMAC proposes to continue to make such sales of LNG in liquid and vapor form subject only to the Commission's jurisdiction under section 3 of the NGA, as amended by the Energy Policy Act of 2005. DOMAC proposes that sales of vaporized LNG will be under flexible, negotiate contracts with market-responsive terms not subject to the Commission's jurisdiction. However, DOMAC proposes a Statement of Terms and Conditions for Liquid Service incorporating terms and conditions from the current Tariff, to apply only to liquid sales. DOMAC requests that the proposed abandonment of such sales pursuant to its amended certificate under section 7 of the NGA and the Terms of Liquid Service be effective as of April 1, 2008.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date shown below. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: January 25, 2008.

Kimberly D. Bose,
Secretary.

[FR Doc. E8-399 Filed 1-11-08; 8:45 am]

BILLING CODE 6717-01-P